DEPARTMENT OF THE INTERIOR

Fish and Wildlife Service

[FWS-R3-ES-2014-N002; FXES11130300000F3-145-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before February 24, 2014.

ADDRESSES: Send written comments by U.S. mail to the Regional Director, Attn: Karl Tinsley, U.S. Fish and Wildlife Service, Ecological Services, 5600 American Blvd. West, Suite 990, Bloomington, MN 55437-1458; or by electronic mail to permitsR3ES@fws.gov.

FOR FURTHER INFORMATION CONTACT: Karl Tinsley, (612) 713-5330.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE48832A

Applicant: Kevin J. Roe, Iowa State University, Ames, IA.

The applicant requests a permit renewal to take (capture and release; non-destructive sampling) scaleshell (Leptodea leptodon) and pink mucket (Lampsilis abrupta) mussels within the States of Alabama, Arkansas, Kentucky, Missouri, Oklahoma, Tennessee, and West Virginia. Proposed activities are for the enhancement of survival of the species in the wild.

Permit Application Number: TE151107

Applicant: Redwing Ecological Services, Inc., Louisville, KY.

The applicant requests a permit renewal to take (capture and release) Indiana bats (Myotis sodalis), gray bats (Myotis grisescens), Virginia big-eared bats (Corynorhinus townsendii virginianus), and Ozark big-eared bats (Corynorhinus townsendii ingens) within the States of Alabama, Arkansas, Connecticut, Delaware, Georgia, Illinois, Indiana, Iowa, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the enhancement of survival of the species in the wild.

Permit Application Number: TE02651A

Applicant: The Ohio Department of Transportation, Columbus, OH.

The applicant requests a permit renewal to take (capture and release) Indiana bats and American burying beetle (Nicrophorus americanus) within the State of Ohio. Proposed activities are for the enhancement of survival of the species in the wild.

Permit Application Number: TE217351

Applicant: Katrina L. Schultes, USDA-Forest Service, Nelsonville, OH.

The applicant requests a permit renewal, with amendments, to take (capture and release) Indiana bats, gray bats, Virginia big-eared bats, and northern long-eared bats (Myotis septentrionalis) within the States of Ohio and Kentucky. Proposed activities are aimed at enhancement of survival of the species in the wild.

Permit Application Number: TE234121

Applicant: Western Ecosystems Technology, Inc., Cheyenne, WY.

The applicant requests a permit renewal to take (capture and release) Indiana bats, gray bats, Ozark big-eared bats, and Virginia big-eared bats within the States of Alabama, Arkansas, Connecticut, Delaware, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the enhancement of survival of the species in the wild.

Permit Application Number: TE08603A

Applicant: Michelle Malcosky, Hudson, OH.

The applicant requests a permit renewal to take (capture and release) Indiana bats throughout the species' range within the States of Illinois, Indiana, Kentucky, Michigan, Ohio, Pennsylvania, and West Virginia. Proposed activities are for the enhancement of survival of the species in the wild.

Permit Application Number: TE049738

Applicant: Third Rock Consultants, LLC, Lexington, KY.

The applicant requests a permit renewal, with amendments, to take (capture and release) the Indiana bat, gray bat, Virginia big-eared bat, Ozark big-eared bat, American burying beetle, and the following Federally listed fish and mussel species:

Erimystax cahni | Slender chub
Etheostoma chienense | Relict darter
Etheostoma percnurum | Duskytail darter
Hybopsis monacha | Spotfin chub
Notropis albizonatus | Palezone shiner
Phoxinus cumberlandensis | Blackside dace
Noturus flavipinnis | Yellowfin madtom
Noturus stanauli | Pygmy madtom
Scaphirhynchus albus | Pallid sturgeon
Alasmidonta atropurpurea | Cumberland elktoe
Cyprogenia stegaria | Fanshell
Dromus dromas | Dromedary pearlymussel
Epioblasma brevidens | Cumberland combshell
Epioblasma capsaeformis | Oyster mussel
Epioblasma obliquata obliquata | Purple cat's paw
Epioblasma torulosa rangiana | Northern riffleshell
Lampsilis orbiculata (=l. abrupta) | Pink mucket
Obovaria retusa | Ring pink
Pegias fibula | Littlewing pearlymussel
Plethobasus cooperianus | Orangefoot pimpleback
Pleurobema clava | Clubshell
Pleurobema gibberum | Cumberland pigtoe
Pleurobema plenum | Rough pigtoe
Potamilus capax | Fat pocketbook
Quadrula intermedia | Cumberland monkeyface
Villosa perpurpurea | Purple bean
Villosa trabilis | Cumberland bean

Activities are proposed throughout the range of the species within the States of Alabama, Florida, Georgia, Illinois, Indiana, Iowa, Kentucky, Michigan, Mississippi, Missouri, North Carolina, Ohio, South Carolina, and Tennessee. Proposed activities are for the enhancement of survival of the species in the wild through surveys to document presence/absence of the species, population monitoring, and evaluation of potential impacts to the species.

Permit Application Number: TE235639

Applicant: Davey Resource Group, Kent, OH.

The applicant requests a permit renewal, with amendments, to take (capture and release) Indiana bats within the States of Alabama, Arkansas, Connecticut, Georgia, Illinois, Indiana, Kentucky, Michigan, Missouri, New York, North Carolina, Ohio, Oklahoma, Pennsylvania, Tennessee, Virginia, and West Virginia. Proposed activities are for the enhancement of survival of the species in the wild.

Permit Application Number: TE06801A

Applicant: Pittsburgh Wildlife & Environmental, Inc., McDonald, PA.

The applicant requests a permit renewal, with amendments, to take (capture and release) Indiana bats and gray bats within the States of Alabama, Arkansas, Florida, Georgia, Illinois, Indiana, Iowa, Kansas, Kentucky, Michigan, Mississippi, Missouri, New Jersey, New York, North Carolina, Ohio, Oklahoma, Pennsylvania, South Carolina, Tennessee, Virginia, West Virginia, and Wisconsin. Proposed activities are for the enhancement of survival and recovery of the species in the wild.

Permit Application Number: TE02373A

Applicant: Environmental Solutions and Innovations, Inc., Cincinnati, OH.

The applicant requests a permit renewal, with amendments, to take (capture and release) Indiana bats, gray bats, Virginia big-eared bats, Ozark big-eared bats, northern long-eared bats, Running buffalo clover (Trifolium stoloniferum), Northeastern bulrush (Scirpus ancistrocheatus), and the following mussel species:

Alasmidonta atropurpurea | Cumberland elktoe
Alasmidonta heterodon | Dwarf wedgemussel
Cyprogenia stegaria | Fanshell
Cumberlandia monodonta | Spectaclecase
Dromus dromas | Dromedary pearlymussel
Epioblasma brevidens | Cumberland combshell
Epioblasma capsaeformis | Oyster mussel
Epioblasma florentina florentina | Yellow blossom
Epioblasma florentina walkeri | Tan riffleshell
Epioblasma obliquata obliquata | Purple catspaw
Epioblasma obliquata perobliqua | White catspaw
Epioblasma torulosa rangiana | Northern riffleshell
Epioblasma torulosa torulosa | Tubercled-blossom pearlymussel
Epioblasma triquetra | Snuffbox
Hemistena lata | Cracking pearlymussel
Lampsilis abrupta | Pink mucket
Leptodea leptodon | Scaleshell
Obovaria retusa | Ring pink
Pegias fibula | Littlewing pearlymussel
Plethobasus cicatricosus | White wartyback pearlymussel
Plethobasus cooperianus | Orangefoot pimpleback
Plethobasus cyphyus | Sheepnose
Pleurobema clava | Clubshell
Pleurobema collina | James spiny mussel
Pleurobema plenum | Rough pigtoe
Potamilus capax | Fat pocketbook
Quadrula cylindrical strigillata | Rough rabbitsfoot
Quadrula fragosa | Winged mapleleaf
Villosa fabalis | Rayed bean
Villosa trabilis | Cumberland bean
Epioblasma florentina curtisi | Curtis' pearly mussel
Lampsilis powellii | Arkansas fatmucket
Lampsilis virescens | Alabama lampmussel
Alasmidonta raveneliana | Appalachian elktoe
Quadrula sparsa | Appalachian monkeyface pearlymussel
Lemiox rimosus | Birdwing pearlymussel
Medionidus parvulus | Coosa moccasinshell
Quadrula intermedia | Cumberland monkeyface pearlymussel
Pleurobema gibberum | Cumberland pigtoe
Lampsilis altilis | Fineline pocketbook
Fusconaia cuneolus | Finerayed pigtoe
Ptychobranchus subtentum | Fluted kidneyshell
Pleurobema hanleyianum | Georgia pigtoe
Epioblasma torulosa gubernaculum | Green bloom pearlymussel
Pleurobema perovatum | Ovate clubshell
Toxolasma cylindrellus | Pale Lilliput pearlymussel
Villosa perpurpurea | Purple bean
Quadrula cylindrical cylindrical | Rabbitsfoot
Fusconaia Cor | Shiny pigtoe
Pleuronaia dolabelloides | Slabside pearlymussel
Epioblasma othcaloogensis | Southern acornshell
Pleurobema georgianum | Southern pigtoe
Ptychobranchus greenii | Triangular kidneyshell
Epioblasma turgidula | Turgid blossom pearlyshell
Epioblasma metastriata | Upland combshell

As part of the same application, the applicant also requests a permit renewal to take (capture and release) the following fish species:

Cyprinella caerulea | Blue shiner
Etheostoma sellare | Maryland darter
Percina rex | Roanoke logperch
Phoxinus cumberlandensis | Blackside Dace
Crystallaria cincotta | Diamond darter

Proposed work would take place in the States of Alabama, Arkansas, Connecticut, Delaware, Florida, Georgia, Illinois, Indiana, Iowa, Kansas, Kentucky, Maryland, Massachusetts, Michigan, Mississippi, Missouri, Nebraska, New Hampshire, New Jersey, New York, North Carolina, Ohio, Oklahoma, Pennsylvania, Rhode Island, South Carolina, Tennessee, Vermont, Virginia, West Virginia, and Wisconsin. Proposed activities include presence/absence surveys, habitat evaluation, and other activity designed to enhance the survival of the species in the wild.

Permit Application Number: TE181256

Applicant: Lewis Environmental Consulting, LLC, Murray, KY.

The applicant requests a permit renewal to take (capture and release) clubshell, Northern riffleshell, orange-footed pimpleback pearlymussel, pink mucket pearlymussel, rough pigtoe, purple cat's paw pearlymussel, white cat's paw pearlymussel, fanshell, fat pocketbook, Higgins' eye pearlymussel (Lampsilis higginsii), winged mapleleaf, rabbitsfoot, rayed bean, sheepnose, spectaclecase, snuffbox, scaleshell, ring pink, and white wartyback mussels within the States of Alabama, Arkansas, Florida, Georgia, Kentucky, Illinois, Indiana, Iowa, Michigan, Mississippi, Missouri, Ohio, Pennsylvania, Tennessee, West Virginia and Wisconsin. Proposed activities are for the enhancement of survival of the species in the wild.

Permit Application Number: TE60999A

Applicant: Levi D. Miller, Logan, OH.

The applicant requests a permit renewal, with amendments, to take (capture and release) Indiana bats within the States of Ohio and Kentucky. Proposed activities are for the enhancement of survival of the species in the wild.

Permit Application Number: TE24334B

Applicant: Shaylyn K. Hatch, Covington, PA.

The applicant requests a permit to take (capture and release) Indiana bats within the State of Ohio. Proposed activities are for the enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: January 14, 2014.
Lynn M. Lewis,
Assistant Regional Director, Ecological Services, Midwest Region.

[FR Doc. 2014-01264 Filed 1-22-14; 8:45 a.m.]

BILLING CODE 4310-55-P